DEPARTMENT OF THE INTERIOR

Bureau of Land Management

[CA-670-08-1610-DR]

Notice of Availability of Record of Decision for the Eastern San Diego County Resource Management Plan/Environmental Impact Statement

AGENCY: Bureau of Land Management, Interior.

ACTION: Notice of availability.

SUMMARY: The BLM announces the availability of the Record of Decision (ROD)/Approved Resource Management Plan (RMP) for Eastern San Diego County. The California State Director signed the ROD on October 10, 2008, which constitutes the final decision of the BLM and makes the Approved RMP effective immediately.

ADDRESSES: Copies of the ROD/Approved RMP are available upon request from the Field Manager, El Centro Field Office, Bureau of Land Management, 1661 S. 4th Street, El Centro, CA 92243 or via the Internet at http://www.ca.blm.gov/elcentro. Copies of the ROD/Approved RMP can also be obtained from the BLM California State Office at 2800 Cottage Way, Suite W 1834, Sacramento, CA 95825.

FOR FURTHER INFORMATION CONTACT: Erin Dreyfuss, Eastern San Diego County RMP Team Leader, at (760) 337-4400, Bureau of Land Management, 1661 S. 4th Street, El Centro, CA 92243; caesdrmp@ca.blm.gov.

SUPPLEMENTARY INFORMATION: The planning area for the Eastern San Diego County RMP is the El Centro Field Office's area of management responsibility. Approximately 103,000 acres of public lands are administered by the BLM in the planning area. The decisions laid out in the ROD will apply only to BLM-administered lands and mineral estate in the planning area.

Planning for the RMP officially began with a Federal Register Notice on July 14, 2004 initiating the scoping process. The BLM sought participation from the public, tribes, and local, state, and federal agencies.

The RMP describes how the BLM intends to manage the planning area to meet desired resource conditions for vegetative communities, wildlife habitats, and cultural and visual resources. It also outlines management direction for recreation, protection of sensitive natural and cultural resources, energy and mineral development, land tenure adjustments and other planning issues raised during the planning process.

The BLM's Draft RMP/Draft Environmental Impact Statement (EIS) for the Eastern San Diego County Planning Area (February 2, 2007) presented alternatives to help the BLM and interested parties understand the various ways of addressing issues in the region. Upon evaluation of the alternatives and associated impacts described in the Draft RMP/EIS, and based on public and agency comments on that document, the BLM prepared the Proposed RMP and Final EIS (PRMP/FEIS) for Eastern San Diego County, which was released on December 7, 2007.

Nine protest letters on the PRMP/FEIS were received by the BLM. In response to these protests and based on additional policy discussions, the BLM decided to clarify and make changes to the Proposed Plan as set forth in the PRMP/FEIS, including: (1) Modifying renewable energy (wind) related proposals and (2) clarifying and modifying Visual Resource Management (VRM) proposals and classifications. On July 28, 2008, the BLM published a notice in the Federal Register to Provide Opportunity to Comment on Changes to the Eastern San Diego County Proposed Resource Management Plan for 30 calendar days.

After considering all of the protests on the PRMP/FEIS and the comments received on the proposed changes to the PRMP/FEIS, the BLM determined that the Preferred Alternative (Alternative E), as modified, best meets the purpose and need for the proposal.

The decisions designating routes of travel for motorized vehicles are implementation-level decisions and are appealable under 43 CFR Part 4. These decisions are contained in Tables 2-19 and 2-20, and Map 2-20 of the Approved RMP. Any party adversely affected by the proposed route designations may appeal within 30 days of publication of this Notice of Availability. The appeal should state the specific route(s), as identified in the ROD/Approved RMP, on which the decision is being appealed. The appeal must be filed with the El Centro Field Manager at the above listed address.

Vicki L. Wood,
El Centro Field Manager.

[FR Doc. E8-26835 Filed 11-10-08; 8:45 am]

BILLING CODE 4310-40-P